DEPARTMENT OF ENERGY

Federal Energy Regulatory Commission

[Project No. 1061-098]

Pacific Gas and Electric Company; Notice of Application Tendered for Filing With the Commission and Soliciting Additional Study Requests and Establishing Procedural Schedule for Relicensing and Deadline for Submission of Final Amendments

Take notice that the following hydroelectric application has been filed with the Commission and is available for public inspection.

a. Type of Application: New Major License.

b. Project No.: 1061-098.

c. Date Filed: August 24, 2020.

d. Applicant: Pacific Gas and Electric Company (PG&E).

e. Name of Project: Phoenix Hydroelectric Project.

f. Location: The existing project is located on the South Fork Stanislaus River and in the Tuolumne River Basin, in Tuolumne County, California. The project occupies 56.78 acres of federal land administered by the U.S. Forest Service and 2.14 acres administered by the Bureau of Land Management.

g. Filed Pursuant to: Federal Power Act, 16 U.S.C. 791(a)-825(r).

h. Applicant Contact: Jan Nimick, Vice President, Power Generation, Pacific Gas and Electric Company, 245 Market Street, San Francisco, CA 94105, (415) 973-0629.

i. FERC Contact: Jim Hastreiter, (503) 552-2760 or james.hastreiter@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 23, 2020.

The Commission strongly encourages electronic filing. Please file additional study requests and requests for cooperating agency status using the Commission's eFiling system at https://ferconline.ferc.gov/FERCOnline.aspx For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1061-098.

m. This application is not ready for environmental analysis at this time.

n. Project Description: The Phoenix Project consists of: (1) A 535-foot-long and 132-foot-high concrete arch dam on the South Fork Stanislaus River, (2) a 172.3 acre reservoir, (3) a 133.1-foot-long and 20-foot-high concrete arch cushion dam, (4) a 15.38-mile-long Main Tuolumne Canal (MTC), (5) a Header Box (forebay), a 5,611-foot-long penstock, and a powerhouse with an impulse turbine rated at 1.6 megawatts.

PG&E operates the project for power generation and to meet Tuolumne Utility Districts (TUD) water supply needs. The water supply for TUD is delivered on a continuous basis to points along the MTC and downstream of the Phoenix Powerhouse. A 1983 Water Supply Agreement provides for TUD to receive water via the MTC during spill and non-spill conditions. During non-spill conditions, PG&E coordinates water deliveries with TUD to meet their demands and during spill conditions, PG&E operates the project to maximize generation, but is still obligated to provide water to TUD and to release the required minimum flows in the South Fork Stanislaus River.

PG&E is proposing to modify the existing project boundary to encompass all facilities necessary for operation and maintenance of the project. PG&E proposes to include many roads and trails within the project boundary (FLA, Volume III, Section 1.2.1.1), and adjust the boundary around Lyons Reservoir, along the Main Tuolumne Canal and several of its spill channels, and along the penstock. With these proposed changes, the area of land within the project boundary will increase for Bureau of Land Management lands to 1.55 acres, National Forest Lands to 29.78 acres, and private lands to 101.16 acres, and decrease for PG&E lands to 216.01 acres.

PG&E proposes to classify water years into five classifications based on unimpaired inflow into New Melones Reservoir: Critically Dry, Dry, Normal-Dry, Normal- Wet, and Wet Water Year (WY) types. The water years in the existing license are classified as either Dry or Normal.

PG&E also proposes to modify minimum instream flow release requirements from Lyons Dam to the South Fork Stanislaus River by WY type as depicted in Table 3.2-18 in Volume III of the application, and to modify the ramping rate requirement below Lyons Dam (limiting the maximum rate of change in river flow not to exceed 50 percent of the existing flow per hour and provide an end of spill ramping rate) to provide for slower recession rates from spills in summer, while maintaining water supply for TUD.

PG&E further proposes the following plans to protect and enhance environmental resources: (1) Spill Channel Erosion Evaluation and Mitigation Plan; (2) Streamflow and Reservoir Level Gaging Plan; (3) Vegetation and Integrated Pest Management Plan; (4) Wildlife Resources Plan; (5) Erosion Control Plan; (6) Hazardous Materials Management Plan; (7) Fire Prevention and Response Plan; (8) Project Roads and Trails Plan; (9) Recreation Plan; and (10) Historic Properties Management Plan.

o. In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

You may also register online at https://ferconline.ferc.gov/FERCOnline.aspx to be notified via email of new filings and issuances related to this or other pending projects. For assistance, contact FERC Online Support.

p. Procedural Schedule: The application will be processed according to the following preliminary schedule. Revisions to the schedule may be made as appropriate.

Milestone | Target date
Issue Deficiency Letter (if necessary) | November 2020.
Request Additional Information | November 2020.
Issue Acceptance Letter | February 2021.
Issue Scoping document 1 for comments | March 2021.
Request Additional Information (if necessary) | May 2021.
Issue Scoping Document 2 | June 2021.
Issue Notice of Ready for Environmental Analysis | June 2021.
Commission Issues Environmental Assessment | December 2021.

q. Final amendments to the application must be filed with the Commission no later than 30 days from the issuance date of the notice of ready for environmental analysis.

Dated: September 18, 2020.
Kimberly D. Bose,
Secretary.

[FR Doc. 2020-21108 Filed 9-23-20; 8:45 am]

BILLING CODE 6717-01-P